DEPARTMENT OF THE INTERIOR

Bureau of Land Management

[212.LLAK941000 L14100000.ET0000; F-86061, F-16298, F-16299, F-16301, AA-61299, F-16304, F-85667, AA-61005, F-86064, F-85702, AA-66614]

Public Land Order No. 7899; Partial Revocation of Public Land Orders No. 5169, 5170, 5171, 5173, 5179, 5180, 5184, 5186, 5187, 5188, 5353, Alaska

AGENCY: Bureau of Land Management, Interior.

ACTION: Public land order.

SUMMARY: This order partially revokes 11 Public Land Orders (PLO) insofar as they affect approximately 9,727,730.01 acres of public lands reserved for study and classification, as appropriate, by the Department of the Interior and supersedes PLO Nos. 6477 and 6559. The purposes for which these lands were withdrawn no longer exist as described in the analysis and decisions made through the Kobuk-Seward Peninsula Record of Decision and Approved Resource Management Plan of 2008 (Kobuk-Seward Pen RMP).

DATES: This Public Land Order takes effect on January 19, 2021.

FOR FURTHER INFORMATION CONTACT: David V. Mushovic, Bureau of Land Management (BLM) Alaska State Office, 222 West Seventh Avenue, Mailstop #13, Anchorage, AK 99513-7504, 907-271-4682, or dmushovi@blm.gov. People who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: This Order implements the recommendations made in the BLM's Kobuk-Seward Pen RMP that serves as the detailed statement required under the National Environmental Policy Act Section 102(2)(C). PLO Nos. 5169, 5170, 5171, and 5173, as amended, modified or corrected, withdrew lands for selection by Village and Regional Corporations under Sec. 11(a)(3) of Alaska Native Claims Settlement Act (ANCSA), and for classification. Sec. 22(h)(4) of ANCSA states “the Secretary is authorized to terminate any withdrawal . . . whenever he determines the withdrawal is no longer necessary.” The purposes for which these lands were withdrawn were satisfied by the analysis conducted during the development of the BLM's Kobuk-Seward Pen RMP. PLO No. 5179, as amended, modified or corrected, withdrew lands in aid of legislation concerning addition to, or creation of, units of the National Park, National Forest, Wildlife Refuge, and Wild and Scenic Rivers systems, and to allow for classification of the lands. Any additions to or creation of new units of National Parks, National Forests, Wildlife Refuges or Wild and Scenic Rivers from the land withdrawn by PLO No. 5179 were met by the Alaska National Interest Lands Conservation Act (ANILCA). The classification of the lands withdrawn by PLO No. 5179 was satisfied by the analysis conducted during the development of the Kobuk-Seward Pen RMP. PLO No. 5180, as amended, modified or corrected, withdrew lands to allow for classification and for the protection of the public interest in these lands. The classification and protection of the public interest in the lands withdrawn by PLO No. 5180 has been satisfied by the analysis conducted during the development of the Kobuk-Seward Pen RMP. PLO No. 5184, as amended, modified or corrected, withdrew lands to allow for classification or reclassification of some of areas withdrawn by ANCSA Sec. 11. These purposes were satisfied by the analysis conducted during the development of the Kobuk-Seward Pen RMP. PLO No. 5186, as amended, modified, or corrected, withdrew lands for classification and protection of the public interest in lands not selected by the State of Alaska. The classification of the lands withdrawn by PLO No. 5186 has been satisfied by the analysis conducted during the development of the Kobuk-Seward Pen RMP. PLO No. 5187, as amended, modified or corrected, withdrew lands for classification and protection of the public interest in lands in military reservations. The classification of the lands withdrawn by PLO No. 5187 has been satisfied by the analysis conducted during the development of the Kobuk-Seward Pen RMP. PLO No. 5188, as amended, modified, or corrected, withdrew the lands in former reservations for classification and protection of the public interest for the use and benefit of Alaska Natives pursuant to Section 17(d)(1) of the Alaska Native Claims Settlement Act. The purposes of PLO No. 5188 were satisfied by the analysis conducted during the development of the BLM's Kobuk-Seward Pen RMP. PLO No. 5353, as amended, modified, or corrected, withdrew lands under the authority of ANCSA Sec. 17(d)(1), pending determination of eligibility of certain Native communities under ANCSA Sec. 11(b)(3), and classification of lands not conveyed pursuant to ANCSA Sec. 14. In the Kobuk-Seward Peninsula area, the Native Village of Council, Alaska, was determined eligible February 11, 1974, as well as the analysis conducted during the development of the Kobuk-Seward Pen RMP; therefore, the purpose for which PLO No. 5353 was withdrawn has been satisfied. Some lands covered by the revocation of the above listed withdrawals have been top filed by the State of Alaska per the Alaska Statehood Act. Upon revocation of the above listed withdrawals, the top filings will convert to selections, subject to valid existing rights. Lands validly selected by or conveyed to the State of Alaska are not subject to ANILCA Sec. 810, as they no longer fit the definition of public lands. The Sec. 810 analysis for the approved Kobuk-Seward Pen RMP found no significant restriction on subsistence uses due to this action.

Order

By virtue of the authority vested in the Secretary of the Interior by Section 204 of the Federal Land Policy and Management Act of 1976, 43 U.S.C. 1714, and Section 22(h)(4) of the Alaska Native Claims Settlement Act of 1971, 43 U.S.C. 1621(h)(4), it is ordered as follows:

1. Subject to valid existing rights, Public Land Orders No. 5169 (37 FR 4472 (1972)); 5170 (37 FR 5573 (1972)); 5171 (37 FR 5573 (1972)); 5173 (37 FR 5575 (1972)); 5179 (37 FR 5579 (1972)); 5180 (37 FR 5583 (1972)); 5184 (37 FR 5588 (1972)); 5186 (37 FR 5589 (1972)); 5187 (37 FR 5591 (1972)); 5188 (37 FR 5591 (1972)); and 5353 (38 FR 19825 (1973)) and any amendments, modifications or corrections to these Orders, if any, are hereby revoked insofar as they affect the following described Federal lands:

Kateel River Meridian, Alaska

T. 21 N., R. 3 E.,

Sec. 3, that portion outside the boundary of the Kobuk Valley National Park;

Secs. 4 thru 9;

Secs. 10 and 11, those portions outside the boundary of the Kobuk Valley National Park;

Secs. 13 thru 24 and secs. 28 thru 33.

T. 10 N., R. 4 E., unsurveyed,

Secs. 1 thru 5;

Sec. 6, excepting lot 2, U.S. Survey No. 12331;

Sec. 7, excepting lots 1 and 2, U.S. Survey No. 12331;

Sec. 8, excepting U.S. Survey No. 13970;

Sec. 9, excepting U.S. Survey Nos. 12313 and 13970;

Secs. 10 thru 15;

Secs. 16 and 17, excepting U.S. Survey No. 13970;

Secs. 18 and 19;

Secs. 20 and 21, those portions outside the boundary of the Koyukuk National Wildlife Refuge;

Secs. 22 thru 26;

Secs. 27 thru 31 and sec. 34, those portions outside the boundary of the Koyukuk National Wildlife Refuge;

Secs. 35 and 36.

T. 11 N., R 4 E., unsurveyed,

Secs. 19 thru 36.

T. 19 N., R. 4 E.,

Secs. 19 thru 36.

T. 22 N., R. 4 E., unsurveyed,

Sec. 1;

Secs. 2 and 11, those portions outside the boundary of the Kobuk Valley National Park;

Secs. 12 and 13;

Secs. 14 and 23, those portions outside the boundary of the Kobuk Valley National Park;

Secs. 24 and 25;

Secs. 26, 27, and 33, those portions outside the boundary of the Kobuk Valley National Park;

Secs. 34, 35, and 36.

T. 10 N., R. 5 E., unsurveyed,

Secs. 3 thru 10, secs. 15 thru 20, and sec. 30.

T. 11 N., R. 5 E., unsurveyed,

Secs. 1 thru 8;

Sec. 9, excepting U.S. Survey No. 12315;

Secs. 10 thru 15;

Sec. 16, excepting U.S. Survey No. 12315;

Secs. 17 thru 36.

T. 12 N., R. 5 E., unsurveyed,

Secs. 25 thru 36.

T. 13 N., R. 5 E., unsurveyed,

Secs. 1 thru 12.

Tps. 14 thru 17 N., R. 5 E., unsurveyed.

T. 18 N., R. 5 E.,

Secs. 4 thru 9 and secs. 16 thru 21;

Sec. 22, lot 1;

Sec. 23, lot 1;

Secs. 24 thru 36.

T. 22 N., R. 5 E.,

Secs. 4 thru 9, secs. 16 thru 21, sec. 26, secs. 28 thru 33, and sec. 35.

T. 13 N., R. 6 E., unsurveyed,

Secs. 1 thru 12.

Tps. 14, 15, and 16 N., R. 6 E., unsurveyed.

T. 17 N., R. 6 E.,

Secs. 1 thru 23;

Sec. 24, lots 1 and 2;

Sec. 25, lots 1 and 2;

Secs. 26 thru 32.

T. 19 N., R. 6 E.,

Secs. 1 thru 26 and secs. 35 and 36.

T. 20 N., R. 6 E.,

Secs. 13 thru 16 and secs. 19 thru 36.

T. 21 N., R. 6 E.,

Secs. 10 thru 15, secs. 22 thru 27, and secs. 34, 35, and 36.

T. 13 N., R. 7 E., unsurveyed,

Secs. 1 thru 12.

T. 14 N., R. 7 E., unsurveyed.

T. 15 N., R. 7 E.,

Sec. 1;

Secs. 2 thru 36, unsurveyed.

T. 16 N., R. 7 E.,

Secs. 14, 15, and 16, secs. 19 thru 23, and secs. 25 thru 36.

T. 20 N., R. 7 E.,

Secs. 1, 2, and 3 and secs. 10 thru 32;

Sec. 33, lot 1;

Secs. 34, 35, and 36.

T. 13 N., R. 8 E., unsurveyed,

Secs. 1 thru 12.

T. 14 N., R. 8 E., unsurveyed.

T. 15 N., R. 8 E.,

Secs. 1 thru 4, unsurveyed;

Secs. 5 and 6;

Secs. 7 thru 36, unsurveyed.

T. 16 N., R. 8 E.,

Secs. 1 thru 5, secs. 7 thru 17, and secs. 20 thru 36.

T. 20 N., R. 8 E.,

Secs. 1 thru 22 and secs. 29, 30, and 31.

T. 24 N., R. 8 E., unsurveyed,

Secs. 1, 2, and 3, secs. 10 thru 15, secs. 22 thru 27, and secs. 34, 35, and 36.

T. 11 N., R. 9 E., unsurveyed.

T. 12 N., R. 9 E., unsurveyed,

Secs. 25 thru 36.

Tps. 14 and 15 N., R. 9 E., unsurveyed.

T. 16 N., R. 9 E.,

Secs. 1 thru 4, unsurveyed;

Sec. 7;

Secs. 10 thru 15, unsurveyed;

Secs. 17 thru 20;

Secs. 22 thru 27 and secs. 30 thru 36, unsurveyed.

T. 20 N., R. 9 E.,

Sec. 1, secs. 3 thru 9, sec. 12, and secs. 15 thru 18.

T. 11 N., R. 10 E., unsurveyed,

Secs. 13, 14, and 15;

Sec. 16, excepting U.S. Survey No. 10040;

Secs. 17 thru 36.

T. 13 N., R. 10 E., unsurveyed,

Secs. 1, 2, and 3.

Tps. 14, 15, and 16 N., R. 10 E., unsurveyed.

T. 17 N., R. 10 E.,

Secs. 21 thru 36.

T. 13 N., R. 11 E., unsurveyed,

Secs. 1 thru 6, secs. 9 thru 16, secs. 21 thru 27, and secs. 34, 35, and 36.

Tps. 14 and 15 N., R. 11 E., unsurveyed.

T. 16 N., R. 11 E.,

Secs. 1 and 2, unsurveyed;

Secs. 3 thru 6;

Secs. 7 thru 36, unsurveyed.

T. 19 N., R. 11 E.,

Secs. 1 thru 4 and secs. 9 thru 14;

Sec. 15, lot 4;

Sec. 16, secs. 23 thru 26, and secs. 35 and 36.

T. 13 N., R. 12 E., unsurveyed.

Tps. 12 and 13 N., R. 13 E., unsurveyed.

T. 11 N., R. 14 E., unsurveyed,

Secs. 1 thru 27 and sec. 36.

T. 12 N., R. 14 E., unsurveyed,

Secs. 1 thru 7;

Sec. 8, excepting U.S. Survey No. 6337;

Secs. 9 thru 36.

T. 13 N., R. 14 E., unsurveyed.

Tps. 11, 12, and 13 N., R. 15 E., unsurveyed.

T. 7 N., R. 2 W., unsurveyed,

Secs. 25 thru 36.

T. 7 N., R. 3 W., unsurveyed,

Secs. 25 thru 36.

Tps. 1, 7 and 8 N., R. 4 W., unsurveyed.

Tps. 1 thru 8 N., R. 5 W., unsurveyed.

T. 9 N., R. 5 W., unsurveyed,

Sec. 1;

Sec. 2, excepting U.S. Survey No. 12311;

Secs. 3 thru 11;

Sec. 12, excepting U.S. Survey No. 12312;

Secs. 13 thru 36.

Tps. 1 and 2 N., R. 6 W., unsurveyed.

T. 3 N., R. 6 W., unsurveyed,

Sec. 1, excepting lot 2, U.S. Survey No. 11327;

Secs. 2 thru 10;

Sec. 11, excepting lots 1 and 3, U.S. Survey No. 11327;

Sec. 12, excepting lot 1, U.S. Survey No. 11327;

Secs. 13 thru 36.

T. 4 N., R. 6 W., unsurveyed,

Secs. 1 thru 17;

Sec. 18, excepting lot 2, U.S. Survey No. 11329;

Sec. 19, excepting lots 1 and 2, U.S. Survey No. 11329;

Secs. 20 thru 32;

Sec. 33, excepting U.S. Survey No. 11328;

Secs. 34, 35, and 36.

Tps. 5 thru 9 N., R. 6 W., unsurveyed.

T. 19 N., R. 6 W.,

Secs. 13 thru 20 and secs. 29 and 30.

Tps. 1 thru 9 N., R. 7 W., unsurveyed.

T. 19 N., R. 7 W.,

Secs. 13 thru 28;

Secs. 29, 30, and 31, excepting U.S. Survey No. 13879;

Secs. 32 thru 36.

T. 20 N., R. 7 W.,

Secs. 22, 23, and 24.

T. 23 N., R. 7 W., unsurveyed,

Secs. 4 and 5, those portions outside the boundary of the Kobuk Valley National Park;

Secs. 6 and 7;

Secs. 8 and 17, those portions outside the boundary of the Kobuk Valley National Park;

Sec. 18;

Secs. 20, 21, 27, and 28, those portions outside the boundary of the Kobuk Valley National Park;

Secs. 29, 31, 32, and 33;

Sec. 34, that portion outside the boundary of the Kobuk Valley National Park.

T. 24 N., R. 7 W., unsurveyed,

Secs. 2 and 3, those portions outside the boundary of the Kobuk Valley National Park;

Secs. 4 thru 8;

Secs. 9, 10, 11, 16, and 17, those portions outside the boundary of the Kobuk Valley National Park;

Secs. 18 and 19;

Secs. 20, 28, and 29, those portions outside the boundary of the Kobuk Valley National Park;

Secs. 30, 31, and 32;

Sec. 33, that portion outside the boundary of the Kobuk Valley National Park.

T. 25 N., R. 7 W., unsurveyed,

Sec. 7, that portion outside the boundary of the Noatak National Preserve and Wilderness;

Sec. 8, that portion outside the boundaries of the Noatak National Preserve and Wilderness and the Kobuk Valley National Park;

Secs. 16 and 17, those portions outside the boundary of the Kobuk Valley National Park;

Sec. 18, that portion outside the boundary of the Noatak National Preserve and Wilderness;

Secs. 19 and 20;

Secs. 21, 22, 27, and 28, those portions outside the boundary of the Kobuk Valley National Park;

Secs. 29 thru 33;

Secs. 34 and 35, those portions outside the boundary of the Kobuk Valley National Park.

Tps. 1 thru 4 N., R. 8 W., unsurveyed.

T. 5 N., R. 8 W., unsurveyed,

Secs. 1 thru 22;

Secs. 23 and 24, excepting U.S. Survey No. 11330;

Secs. 25 thru 36.

Tps. 6 thru 10 N., R. 8 W., unsurveyed.

T. 11 N., R. 8 W., unsurveyed,

Sec. 8;

Sec. 9, excepting lot 2, U.S. Survey No. 14141 and U.S. Survey No. 11994;

Sec. 10, excepting lot 1, U.S. Survey No. 14141 and U.S. Survey No. 11994;

Secs. 11 thru 36; lots 1 and 2, U.S. Survey No. 14141.

T. 23 N. R. 8 W., unsurveyed,

Secs. 1 thru 23 and secs. 26 thru 35.

T. 24 N., R. 8 W., unsurveyed.

T. 25 N., R. 8 W., unsurveyed,

Secs. 2 and 3, those portions outside the boundary of the Noatak National Preserve and Wilderness;

Secs. 4 thru 10;

Secs. 11, 13, and 14, those portions outside the boundary of the Noatak National Preserve and Wilderness;

Secs. 15 thru 36.

T. 26 N., R. 8 W., unsurveyed,

Secs. 16, 17, and 18, those portions outside the boundary of the Noatak National Preserve and Wilderness;

Secs. 19 and 20;

Secs. 21, 22, 26, and 27, those portions outside the boundary of the Noatak National Preserve and Wilderness;

Secs. 28 thru 33;

Sec. 34, that portion outside the boundary of the Noatak National Preserve and Wilderness.

Tps. 1 and 2 N., R. 9 W., unsurveyed.

T. 3 N., R. 9 W., unsurveyed,

Secs. 1 thru 5;

Sec. 6, excepting lots 1 and 2, U.S. Survey No. 11332;

Sec. 7, excepting lots 1 thru 5, U.S. Survey No. 11332;

Sec. 8, excepting lot 6, U.S. Survey No. 11332;

Secs. 9 thru 16;

Sec. 17, excepting lots 6, 7, and 8, U.S. Survey No. 11332;

Secs. 18 thru 36.

T. 4 N., R. 9 W., unsurveyed.

T. 5 N., R. 9 W., unsurveyed,

Secs. 1 thru 18;

Sec. 19, excepting lots 1 and 2, U.S. Survey No. 11335;

Sec. 20, excepting lots 1 and 6, U.S. Survey No. 11335;

Secs. 21 thru 28;

Sec. 29, excepting U.S. Survey No. 2018 and lots 1 thru 5 and lots 8 and 9, U.S. Survey No. 11335;

Sec. 30, excepting lots 1, 2, and 4, U.S. Survey No. 11335;

Secs. 31 thru 36; lot 9, U.S. Survey No. 11335.

Tps. 6 thru 9 N., R. 9 W., unsurveyed.

T. 10 N., R. 9 W., unsurveyed,

Secs. 1 thru 4;

Sec. 5, excepting U.S. Survey No. 12015;

Secs. 6 thru 36.

T. 11 N., R. 9 W., unsurveyed,

Sec. 13 and secs. 19 thru 36.

T. 18 N., R. 9 W.,

Secs. 4 thru 9 and secs. 16 thru 20.

T. 19 N., R. 9 W.,

Sec. 1, lots 1, 3, and 4;

Secs. 2 thru 36.

T. 20 N., R. 9 W.,

Secs. 1, 2, and 3.

T. 21 N., R. 9 W., unsurveyed,

Secs. 1 thru 18;

Sec. 19, excepting U.S. Survey No. 13978;

Secs. 20 thru 36.

T. 22 N., R. 9 W., unsurveyed,

Secs. 3 and 4, secs. 9 thru 17, and secs. 20 thru 36.

T. 23 N., R. 9 W., unsurveyed,

Secs. 33 and 34.

T. 26 N., R. 9 W., unsurveyed,

Secs. 13, 14, 22, and 23, those portions outside the boundary of the Noatak National Preserve and Wilderness;

Secs. 24, 25, and 26;

Secs. 27, 34, and 35, those portions outside the boundary of the Noatak National Preserve and Wilderness;

Sec. 36.

Tps. 6, 7, 8, and 10 N., R. 10 W., unsurveyed.

T. 11 N., R. 10 W., unsurveyed,

Secs. 6, 7, and 8 and secs. 13 thru 36.

T. 18 N., R. 10 W.,

Secs. 1 thru 24;

Sec. 25, lot 1;

Sec. 26;

Sec. 27, lot 1;

Sec. 28, lot 1;

Sec. 29, lot 1;

Sec. 30;

Sec. 31, lot 1;

Sec. 32, lot 2;

Sec. 34, lot 1;

Sec. 35, lot 2.

T. 19 N., R. 10 W.,

Secs. 7 and 8 and secs. 13 thru 36.

T. 21 N., R. 10 W., unsurveyed,

Secs. 1, 5, 6, and 7, secs. 11 thru 15, secs. 21 thru 28, and secs. 32 thru 36.

T. 22 N., R. 10 W., unsurveyed,

Secs. 2 thru 11, secs. 14 thru 22, and secs. 28 thru 32.

T. 23 N., R. 10 W., unsurveyed,

Secs. 31 thru 36.

T. 25 N., R. 10 W., unsurveyed,

Secs. 2 and 12, those portions outside the boundary of the Noatak National Preserve and Wilderness.

T. 26 N., R. 10 W., unsurveyed,

Secs. 19, 20, and 21 and secs. 27 thru 30, those portions outside the boundary of the Noatak National Preserve and Wilderness;

Secs. 31, 32, and 33;

Sec. 34, that portion outside the boundary of the Noatak National Preserve and Wilderness.

T. 5 N., R. 11 W.,

Sec. 1, secs. 5 thru 9, sec. 12, secs. 16 thru 21, sec. 25, and secs. 27 thru 36.

T. 6 N., R. 11 W.,

Sec. 1, secs. 9 thru 15, secs. 22 thru 27, and secs. 35 and 36.

T. 7 N., R. 11 W.,

Secs. 1 thru 25 and sec. 36.

T. 8 N., R. 11 W.,

Secs. 1 thru 4, secs. 8 thru 17, and secs. 19 thru 36.

T. 10 N., R. 11 W., unsurveyed,

Secs. 1, 2, and 3, secs. 9 thru 15, secs. 23 thru 26, and secs. 35 and 36.

T. 11 N., R. 11 W., unsurveyed,

Secs. 1 thru 29 and secs. 33 thru 36.

T. 12 N., R. 11 W., unsurveyed,

Secs. 6, 7, and 8 and secs. 16 thru 21;

Sec. 26, excepting U.S. Survey No. 12326;

Secs. 27 thru 36.

T. 18 N., R. 11 W.,

Secs. 1 thru 24.

T. 19 N., R. 11 W.

T. 20 N., R. 11 W., unsurveyed,

Secs. 4, 12, and 19 and secs. 29 thru 34.

T. 21 N., R. 11 W., unsurveyed,

Sec. 1;

Secs. 2 and 3, excepting U.S. Survey No. 9139;

Secs. 9 thru 16;

Sec. 17, E½ and those lands west of the easterly bank of the Squirrel River, excepting U.S. Survey No. 6711;

Secs. 18 and 19, those lands west of the easterly bank of the Squirrel River, excepting U.S. Survey No. 6711;

Secs. 21 thru 24 and secs. 26, 27, 28, and 34.

T. 22 N., R. 11 W., unsurveyed,

Sec. 1 and secs. 3 thru 9;

Sec. 10, NW¼;

Sec. 11, E½;

Secs. 12, 13, and 14, secs. 17 thru 27, secs. 29 thru 32, and secs. 34, 35, and 36.

T. 23 N., R. 11 W., unsurveyed,

Secs. 3 thru 10, secs. 15 thru 22, and secs. 27 thru 34.

T. 24 N., R. 11 W., unsurveyed,

Secs. 1 thru 11;

Secs. 12 and 13, excepting U.S. Survey No. 13860;

Secs. 14 thru 24 and secs. 27 thru 34.

T. 25 N., R. 11 W., unsurveyed.

T. 26 N., R. 11 W., unsurveyed,

Secs. 17 and 18, those portions outside the boundary of the Noatak National Preserve and Wilderness;

Sec. 19;

Secs. 20 thru 24, those portions outside the boundary of the Noatak National Preserve and Wilderness;

Secs. 25 thru 29;

Secs. 30 and 31, those portions outside the boundary of the Noatak National Preserve and Wilderness;

Secs. 32 thru 36.

T. 5 N., R. 12 W.

T. 9 N., R. 12 W.,

Secs. 15 thru 22 and secs. 27 thru 34.

T. 11 N., R. 12 W., unsurveyed,

Secs. 1 thru 6 and secs. 9 thru 14.

T. 12 N., R. 12 W., unsurveyed.

T. 13 N., R. 12 W., unsurveyed,

Sec. 23, excepting lot 6, U.S. Survey No. 6249;

Secs. 26, 27, 33, 34, and 35.

Tps. 18 and 19 N., R. 12 W.

T. 20 N., R. 12 W., unsurveyed,

Secs. 6 thru 9 and secs. 14 thru 36.

T. 21 N., R. 12 W., unsurveyed,

Secs. 4 thru 11;

Sec. 12, those lands right of the left bank of the Squirrel River;

Secs. 13 thru 27, secs. 29 thru 32, and sec. 36.

T. 22 N., R. 12 W., unsurveyed,

Secs. 1 and 2, secs. 4 thru 8, secs. 11 thru 14, secs. 17 thru 20, and secs. 23 thru 26;

Sec. 29, those lands right of the left bank of the Squirrel River;

Sec. 30, those lands within the left and right banks of the Squirrel River;

Sec. 31;

Sec. 32, those lands right of the left bank of the Squirrel River;

Sec. 33, those lands within the left and right banks of the Squirrel River;

Secs. 35 and 36.

Tps. 23 and 24 N., R. 12 W., unsurveyed.

T. 25 N., R. 12 W., unsurveyed,

Secs. 1, 2, 3, 9, and 10, those portions outside the boundary of the Noatak National Preserve;

Sec. 11;

Sec. 12, that portion outside the boundary of the Noatak National Preserve;

Secs. 13, 14, and 15;

Secs. 16, 17, 19, and 20, those portions outside the boundary of the Noatak National Preserve;

Secs. 21 thru 29;

Sec. 30, that portion outside the boundary of the Noatak National Preserve;

Secs. 31 thru 36.

T. 26 N., R. 12 W., unsurveyed,

Sec. 13, that portion outside the boundary of the Noatak National Preserve and Wilderness;

Secs. 24, 25, and 36, those portions outside the boundary of the Noatak National Preserve.

T. 5 N., R. 13 W.

T. 6 N., R. 13 W.,

Secs. 3 thru 10 and secs. 14 thru 36.

T. 7 N., R. 13 W.,

Secs. 1 thru 23 and secs. 27 thru 34.

T. 8 N., R. 13 W.

T. 9 N., R. 13 W., unsurveyed.

T. 10 N., R. 13 W., unsurveyed,

Secs. 26 thru 29 and secs. 31 thru 35.

T. 12 N., R. 13 W., unsurveyed,

Sec. 11, excepting lots 1 and 5, U.S. Survey No. 12324;

Sec. 12, excepting lot 5, U.S. Survey No. 12324;

Secs. 13 thru 16, secs. 19 thru 30, and secs. 33 thru 36.

T. 19 N., R. 13 W.,

Secs. 1 thru 30 and secs. 32 thru 36.

T. 20 N., R. 13 W., unsurveyed,

Secs. 1, 2, and 3;

Secs. 4 and 5, excepting U.S. Survey No. 8795;

Secs. 6 and 7;

Secs. 8 and 9, excepting U.S. Survey No. 8794;

Secs. 10 thru 15;

Secs. 16 and 17, excepting U.S. Survey No. 8794;

Secs. 18 thru 36.

T. 21 N., R. 13 W., unsurveyed,

Sec. 1, secs. 4 thru 9, and secs. 12 thru 36.

T. 22 N., R. 13 W., unsurveyed,

Secs. 1 thru 18;

Sec. 20, N½;

Secs. 22 and 27 and secs. 31 thru 36.

T. 23 N., R. 13 W., unsurveyed.

T. 24 N., R. 13 W., unsurveyed,

Sec. 1;

Secs. 2, 3, 8, 9, and 10, those portions outside the boundary of the Noatak National Preserve;

Secs. 11 thru 16;

Secs. 17 and 18, those portions outside the boundary of the Noatak National Preserve;

Secs. 19 thru 36.

T. 25 N., R. 13 W., unsurveyed,

Secs. 25 and 36, those portions outside the boundary of the Noatak National Preserve.

Tps. 5, 6, and 7 N., R. 14 W.

T. 8 N., R. 14 W.,

Secs. 1 thru 4, secs. 9 thru 16, secs. 21 thru 28, and secs. 32 thru 36.

T. 9 N., R. 14 W., unsurveyed,

Secs. 12 and 13, secs. 23 thru 26, and secs. 35 and 36.

T. 12 N., R. 14 W., unsurveyed,

Secs. 5 thru 8 and secs. 15 thru 30.

T. 13 N., R. 14 W., unsurveyed,

Sec. 31.

T. 19 N., R. 14 W.,

Secs. 1 thru 5, unsurveyed;

Sec. 6, unsurveyed, excepting U.S. Survey No. 10933;

Secs. 7 and 8;

Sec. 9, unsurveyed, excepting lot 2, U.S. Survey No. 10927;

Secs. 10 thru 14, unsurveyed;

Sec. 15, unsurveyed, excepting lots 1 and 2, U.S. Survey No. 10927;

Sec. 16;

Sec. 24, unsurveyed, excepting lot 1, U.S. Survey No. 10891.

T. 20 N., R. 14 W., unsurveyed.

T. 21 N., R. 14 W., unsurveyed,

Secs. 1 thru 29;

Secs. 30 and 31, those portions outside the boundary of the Noatak National Preserve;

Secs. 32 thru 36.

T. 22 N., R. 14 W., unsurveyed,

Secs. 1 thru 9, secs. 11 thru 14, secs. 16 thru 20, secs. 23 and 26, and secs. 29 thru 36.

T. 23 N., R. 14 W., unsurveyed,

Secs. 1 thru 4;

Secs. 5, 7, 8, and 9, those portions outside the boundary of the Noatak National Preserve;

Secs. 10 thru 17;

Sec. 18, that portion outside the boundary of the Noatak National Preserve;

Secs. 19 thru 36.

T. 24 N., R. 14 W., unsurveyed,

Secs. 13, 14, 21, 22, and 23, those portions outside the boundary of the Noatak National Preserve;

Secs. 24 and 25;

Secs. 26 thru 29 and secs. 31 and 32, those portions outside the boundary of the Noatak National Preserve;

Secs. 33 thru 36.

T. 11 N., R. 15 W., unsurveyed,

Secs. 2 and 3.

T. 12 N., R. 15 W., unsurveyed,

Secs. 1 and 2;

Sec. 3, excepting lot 1, U.S. Survey No. 11667;

Sec. 10, excepting lots 1 and 2, U.S. Survey No. 11667;

Secs. 11 thru 15;

Sec. 22, excepting lot 1, U.S. Survey No. 12330;

Secs. 23 thru 27;

Secs. 34, 35, and 36.

T. 13 N., R. 15 W., unsurveyed,

Secs. 26 and 36.

T. 19 N., R. 15 W.,

Secs. 1, 2, and 3.

T. 20 N., R. 15 W., unsurveyed,

Secs. 1, 2, 9, 10, and 11, those portions outside the boundary of the Noatak National Preserve;

Secs. 12 thru 15;

Secs. 16 and 17, those portions outside the boundary of the Noatak National Preserve;

Secs. 20 thru 29 and secs. 31 thru 36.

T. 21 N., R. 15 W., unsurveyed,

Secs. 1 thru 4;

Secs. 5, 8, and 9, those portions outside the boundary of the Noatak National Preserve;

Secs. 10 thru 14;

Secs. 15, 16, 17, 22, and 23, those portions outside the boundary of the Noatak National Preserve;

Sec. 24;

Secs. 25 and 26, those portions outside the boundary of the Noatak National Preserve.

T. 22 N., R. 15 W., unsurveyed,

Secs. 1 thru 18;

Secs. 19 and 20, those portions outside the boundary of the Noatak National Preserve;

Secs. 21 thru 27;

Secs. 28, 29, 32, and 33, those portions outside the boundary of the Noatak National Preserve;

Secs. 34, 35, and 36.

T. 23 N., R. 15 W., unsurveyed,

Secs. 6 thru 12, those portions outside the boundary of the Noatak National Preserve;

Secs. 13 thru 36.

T. 15 N., R. 16 W.,

Secs. 2 thru 6 and secs. 8, 9, 10, 15, 16, 22, and 27.

T. 16 N., R. 16 W.,

Secs. 29, 31, and 32.

T. 19 N., R. 16 W.,

Sec. 9, excepting Interim Conveyance Nos. 2150 and 2151;

Sec. 27, lots 1 and 2.

T. 22 N., R. 16 W., unsurveyed,

Secs. 1 and 2;

Secs. 3, 4, and 5, and secs. 8 thru 11, those portions outside the boundary of the Noatak National Preserve;

Sec. 12;

Secs. 13, 14, and 24, those portions outside the boundary of the Noatak National Preserve.

T. 23 N., R. 16 W., unsurveyed,

Secs. 1, 11, and 12, those portions outside the boundary of the Noatak National Preserve;

Sec. 13;

Secs. 14 and 23, those portions outside the boundary of the Noatak National Preserve;

Secs. 24 and 25;

Secs. 26, 27, 33, and 34, those portions outside the boundary of the Noatak National Preserve;

Secs. 35 and 36.

T. 15 N., R. 17 W.,

Secs. 1, 4, and 5.

T. 20 N., R. 17 W.,

Secs. 16, 17, 19, 20, and 23 and secs. 29 thru 32.

T. 26 N., R. 17 W.,

Secs. 5, 6, and 7.

T. 27 N., R. 17 W.,

Secs. 32 and 33.

T. 17 N., R. 18 W.,

Sec. 14, NW¼, excepting Patent No. 50-97-0162; tract 37.

T. 18 N., R. 18 W.,

Sec. 25, lot 6.

T. 20 N., R. 18 W.,

Secs. 5 thru 8 and secs. 16 thru 30.

T. 21 N., R. 18 W.,

Secs. 7 thru 11, secs. 13 thru 24, and secs. 26 thru 34.

T. 22 N., R. 18 W.,

Secs. 6 and 7, secs. 17 thru 21, and secs. 28, 29, and 30.

T. 23 N., R. 18 W.,

Secs. 1, 2, and 3, secs. 10 thru 15, secs. 22, 23, 24, and 27, and secs. 31 thru 34.

T. 24 N., R. 18 W.,

Secs. 25, 26, 34, 35, and 36.

T. 25 N., R. 18 W.,

Sec. 5, lot 1;

Secs. 8 and 17;

Sec. 19, lots 1 thru 4;

Secs. 30 and 31.

T. 26 N., R. 18 W.,

Secs. 12 thru 15 and sec. 21.

T. 27 N., R. 18 W.,

Sec. 33.

T. 32 N., R. 18 W., tract A.

T. 33 N., R. 18 W., tract A.

T. 6 N., R. 19 W.,

Sec. 19 and secs. 29 thru 32.

T. 20 N., R. 19 W., unsurveyed,

Sec. 1, that portion outside the boundary of the Cape Krusenstern National Monument.

T. 21 N., R. 19 W.,

Secs. 1 thru 17;

Secs. 18, 21, and 22, those portions outside the boundary of the Cape Krusenstern National Monument;

Secs. 23, 24, and 25;

Secs. 26, 27, and 36, those portions outside the boundary of the Cape Krusenstern National Monument.

T. 22 N., R. 19 W.,

Secs. 1 thru 29 and secs. 31 thru 36.

T. 25 N., R. 19 W.,

lot 3, U.S. Survey No. 3778.

T. 33 N., R. 19 W.,

tract C.

T. 21 N., R. 20 W., unsurveyed,

Secs. 1, 2, and 3;

Secs. 4, 9, 10, and 11, those portions outside the boundary of the Cape Krusenstern National Monument;

Sec. 12;

Secs. 13 and 14, those portions outside the boundary of the Cape Krusenstern National Monument.

T. 22 N., R. 20 W.,

Secs. 1 thru 4, secs. 10 thru 14, secs. 18, 19, 20, and 24, and secs. 28 thru 35.

T. 24 N., R. 20 W.,

Secs. 7, 21, and 28.

T. 25 N., R. 20 W.,

Sec. 1, secs. 5 thru 8, secs. 17 thru 20, secs. 29 thru 32, and sec. 35.

T. 26 N., R. 20 W.,

Secs. 3, 4, and 5;

Secs. 6 and 7, those portions outside the boundary of the Cape Krusenstern National Monument;

Secs. 8 thru 17;

Secs. 18 and 19, those portions outside the boundary of the Cape Krusenstern National Monument;

Secs. 20 thru 36.

T. 27 N., R. 20 W., unsurveyed,

Secs. 1, 2, and 3;

Secs. 4 thru 7, those portions outside the boundary of the Cape Krusenstern National Monument;

Secs. 8, 9, 10, 15, 16, and 17;

Secs. 18 and 19, those portions outside the boundary of the Cape Krusenstern National Monument;

Secs. 20, 21, and 22;

Secs. 23, 24, and 25, excepting lot 1, U.S. Survey No. 6734;

Sec. 26, excepting lots 1 and 2, U.S. Survey No. 6734;

Sec. 27;

Sec. 28, excepting U.S. Survey No. 6733;

Secs. 29 thru 32;

Sec. 33, excepting U.S. Survey No. 6733;

Sec. 34;

Sec. 35, excepting lot 2, U.S. Survey No. 6734;

Sec. 36.

T. 33 N., R. 20 W., that portion of tract A, within secs. 13 thru 36.

T. 24 N., R. 21 W., unsurveyed,

Secs. 1 thru 3;

Secs. 4, 9, and 10, those portions outside the boundary of the Cape Krusenstern National Monument;

Secs. 11 thru 14;

Secs. 15, 22, and 23, those portions outside the boundary of the Cape Krusenstern National Monument;

Sec. 24;

Sec. 26, those portions outside the boundary of the Cape Krusenstern National Monument, excepting U.S. Survey No. 13923.

T. 25 N., R. 21 W., unsurveyed,

Secs. 1, 12, 13, 24, 25, 26, and 35, those portions outside the boundary of the Cape Krusenstern National Monument;

Sec. 36.

T. 26 N., R. 21 W., unsurveyed,

Secs. 1, 24, 25, and 36, those portions outside the boundary of the Cape Krusenstern National Monument.

T. 27 N., R. 21 W., unsurveyed,

Secs. 4, 5, 6, 13, 24, 25, and 36, those portions outside the boundary of the Cape Krusenstern National Monument.

T. 28 N., R. 21 W., unsurveyed,

Secs. 35 and 36, those portions outside the boundary of the Cape Krusenstern National Monument.

T. 30 N., R. 21 W., unsurveyed,

Secs. 27 and 34.

T. 33 N., R. 21 W.,

that portion of tract A, within secs. 25 thru 36.

T. 34 N., R. 21 W.,

tracts A, B, D, and E.

T. 30 N., R. 22 W., unsurveyed.

T. 31 N., R. 22 W., unsurveyed,

Secs. 19 thru 36.

T. 33 N., R. 22 W., unsurveyed,

Secs. 1 thru 12 and secs. 15 thru 19.

T. 34 N., R. 22 W., unsurveyed,

Sec. 13, secs. 24 thru 28, and secs. 33 thru 36.

T. 30 N., R. 23 W., unsurveyed.

T. 31 N., R. 23 W., unsurveyed,

Secs. 4 thru 9 and secs. 16 thru 36.

T. 32 N., R. 23 W., unsurveyed,

Secs. 4 thru 9, secs. 16 thru 21, and secs. 28 thru 33.

T. 33 N., R. 23 W., unsurveyed,

Secs. 6 and 13, secs. 23 thru 28, and secs. 30 thru 36.

T. 34 N., R. 23 W., unsurveyed,

Secs. 7 thru 24 and secs. 27 thru 33.

T. 27 N., R. 24 W.,

Secs. 1 thru 10, secs. 16 thru 21, and secs. 30 and 31.

T. 28 N., R. 24 W.,

Secs. 1 thru 12 and secs. 25, 35, and 36.

T. 29 N., R. 24 W.,

Secs. 1, 2, 11, and 12, secs. 24 thru 27, and secs. 34, 35, and 36.

T. 30 N., R. 24 W., unsurveyed,

Sec. 1;

Secs. 2 and 3, excepting U.S. Survey No. 13179;

Secs. 4 thru 16;

Secs. 17 and 18, excepting U.S. Survey No. 11923;

Secs. 19 thru 36.

T. 31 N., R. 24 W., unsurveyed.

T. 32 N., R. 24 W., unsurveyed,

Secs. 5 thru 8 and secs. 15 thru 36.

T. 33 N., R. 24 W., unsurveyed,

Secs. 1 thru 24 and secs. 26 thru 34.

T. 34 N., R. 24 W., unsurveyed.

T. 26 N., R. 25 W.,

Secs. 1, 2, 3, 11, and 12.

T. 27 N., R. 25 W.,

Secs. 1 thru 5, secs. 8 thru 30, and secs. 32 thru 36.

T. 28 N., R. 25 W.,

Secs. 1, 2, 11, 12, 14, 15, 16, 21, 22, and 23.

T. 29 N., R. 25 W.,

Secs. 1 thru 11, secs. 14 thru 22, and sec. 30.

Tps. 30 thru 34 N., R. 25 W., unsurveyed.

T. 29 N., R. 26 W., unsurveyed,

Secs. 1 thru 4;

Secs. 5 and 6, excepting U.S. Survey No. 6852;

Secs. 7, 8, and 9;

Sec. 10, excepting U.S. Survey No. 6819;

Secs. 11 thru 36.

T. 30 N., R. 26 W., unsurveyed,

Secs. 1 thru 26;

Sec. 27, excepting U.S. Survey No. 6827;

Sec. 28, excepting U.S. Survey Nos. 6827 and 6830;

Secs. 29 thru 32;

Sec. 33, excepting U.S. Survey No. 6830;

Secs. 34, 35, and 36.

Tps. 31 thru 34 N., R. 26 W., unsurveyed.

T. 1 N., R. 27 W., unsurveyed,

Sec. 1, excepting M.S. No. 2545;

Secs. 2 thru 36;

M.S. No. 2545.

T. 2 N., R. 27 W., unsurveyed,

Sec. 5, that portion outside the boundary of the Bering Land Bridge National Preserve;

Secs. 6, 7, and 8;

Secs. 9, 10, 11, and 14, those portions outside the boundary of the Bering Land Bridge National Preserve;

Secs. 15 thru 22;

Secs. 23 and 24, those portions outside the boundary of the Bering Land Bridge National Preserve;

Secs. 25 thru 36.

T. 3 N., R. 27 W., unsurveyed,

Secs. 7, 18, and 31, those portions outside the boundary of the Bering Land Bridge National Preserve.

T. 4 N., R. 27 W., unsurveyed,

Secs. 4, 5, and 6, those portions outside the boundary of the Bering Land Bridge National Preserve;

Secs. 7, 8, and 9;

Secs. 10 and 11, those portions outside the boundary of the Bering Land Bridge National Preserve;

Secs. 14 thru 21;

Secs. 22 and 23, those portions outside the boundary of the Bering Land Bridge National Preserve;

Secs. 29, 30, and 31;

Sec. 32, that portion outside the boundary of the Bering Land Bridge National Preserve.

Tps. 30 thru 34 N., R. 27 W., unsurveyed.

T. 29 N., R. 28 W., unsurveyed,

Secs. 1 and 2;

Secs. 3 and 11, those portions outside the boundary of the Alaska Maritime National Wildlife Refuge;

Secs. 12 and 13.

Tps. 31 thru 34 N., R. 28 W., unsurveyed.

T. 30 N., R. 29 W., unsurveyed,

Sec. 3, that portion outside the boundary of the Alaska Maritime National Wildlife Refuge;

Sec. 11.

T. 31 N., R. 29 W., unsurveyed,

Secs. 1 thru 4;

Secs. 5 and 8, those portions outside the boundary of the Alaska Maritime National Wildlife Refuge;

Secs. 9 thru 14;

Secs. 15, 16, 17, and 22, those portions outside the boundary of the Alaska Maritime National Wildlife Refuge;

Secs. 23 thru 26;

Secs. 27 and 34, those portions outside the boundary of the Alaska Maritime National Wildlife Refuge.

T. 32 N., R. 29 W., unsurveyed,

Secs. 1 thru 18;

Secs. 19 and 20, those portions outside the boundary of the Alaska Maritime National Wildlife Refuge;

Secs. 21 thru 27;

Secs. 28, 29, and 32, those portions outside the boundary of the Alaska Maritime National Wildlife Refuge;

Secs. 33 thru 36.

T. 32 N., R. 30 W., unsurveyed,

Secs. 1, 2, and 3;

Secs. 4 and 9, those portions outside the boundary of the Alaska Maritime National Wildlife Refuge;

Secs. 10, 11, and 12;

Secs. 13 thru 16 and secs. 23, 24, and 25, those portions outside the boundary of the Alaska Maritime National Wildlife Refuge.

T. 34 N., R. 30 W., unsurveyed,

Secs. 10 thru 15, secs. 22 thru 27, and secs. 34, 35, and 36.

T. 8 N., R. 32 W.,

Secs. 23 thru 26 and secs. 35 and 36.

T. 9 N., R. 32 W.,

Secs. 2 thru 6 and secs. 8 thru 11.

T. 8 N., R. 33 W.,

Sec. 31.

T. 10 N., R. 33 W.,

Secs. 1 and 2, secs. 11 thru 14, secs. 23 thru 26, and sec. 36.

T. 11 N., R. 33 W.,

Secs. 25, 35, and 36.

T. 8 N., R. 34 W.,

Secs. 30 thru 36.

T. 8 N., R. 35 W.,

Secs. 24, 25, and 36.

T. 1 N., R. 36 W.

T. 8 N., R. 36 W.,

Secs. 2 and 3, secs. 7 thru 11, secs. 14 thru 23, and secs. 27 thru 34.

T. 8 N., R. 37 W.,

Secs. 10 thru 15 and secs. 19 thru 36.

T. 1 N., R. 38 W.,

tracts A and B.

T. 5 N., R. 38 W., unsurveyed,

Secs. 1 thru 5;

Sec. 6, excepting U.S. Survey No. 12266;

Secs. 7 thru 36.

T. 1 N., R. 39 W.,

Secs. 1, 2, and 3.

T. 5 N., R. 39 W., unsurveyed.

T. 4 N., R. 40 W., unsurveyed,

Secs. 1, 2, and 3, secs. 10 thru 15, and secs. 19 thru 36.

T. 2 N., R. 41 W.,

Secs. 5, 8, and 17.

T. 3 N., R. 41 W.,

Secs. 13 thru 16, secs. 21 thru 28, and secs. 32 thru 36.

T. 4 N., R. 41 W., unsurveyed,

Secs. 19 thru 36.

T. 2 N., R. 42 W.,

Secs. 4, 5, 6, 9, and 16, secs. 21 thru 24, and secs. 26 and 27.

T. 3 N., R. 42 W.,

Secs. 1 thru 18.

T. 4 N., R. 42 W., unsurveyed,

Secs. 1, 2, and 3, secs. 8 thru 16, and secs. 21 thru 26;

Sec. 27, excepting U.S. Survey No. 13902;

Sec. 28;

Sec. 29, excepting U.S. Survey No. 13183;

Secs. 31 thru 36.

T. 2 N., R. 43 W.,

Secs. 5, 6, and 7.

T. 3 N., R. 43 W.,

Secs. 31 and 32.

T. 2 N., R. 44 W.,

tract 37.

T. 3 N., R. 44 W.,

Secs. 25, 26, and 27 and secs. 33 thru 36.

T. 2 N., R. 45 W.,

tracts 37 and 38.

Tps. 1 and 2 S., R. 4 W., unsurveyed.

Tps. 1 thru 6 S., R. 5 W., unsurveyed.

Tps. 1 thru 5 S., R. 6 W., unsurveyed.

T. 6 S., R. 6 W., unsurveyed,

Secs. 1 thru 31;

Sec. 32, excepting U.S. Survey No. 13579;

Secs. 33 thru 36.

Tps. 7 and 8 S., R. 6 W., unsurveyed.

Tps. 1 thru 10 S., R. 7 W., unsurveyed.

T. 11 S., R. 7 W., unsurveyed,

Secs. 1 thru 28;

Sec. 29, excepting U.S. Survey No. 13578;

Secs. 30 thru 36.

Tps. 1 thru 13 S., R. 8 W., unsurveyed.

Tps. 1 thru 4 S., R. 9 W., unsurveyed.

T. 5 S., R. 9 W., unsurveyed,

Secs. 1 thru 30;

Sec. 31, excepting lot 1, U.S. Survey No. 12420;

Secs. 32 thru 36.

T. 6 S., R. 9 W., unsurveyed,

Secs. 1 thru 4;

Secs. 5 and 6, excepting U.S. Survey No. 12420;

Secs. 7 thru 36.

Tps. 7, 8, and 9 S., R. 9 W., unsurveyed.

T. 10 S., R. 9 W., unsurveyed,

Secs. 1 thru 30 and secs. 32 thru 36.

T. 11 S., R. 9 W., unsurveyed,

Secs. 1 thru 5 and secs. 8 and 9;

Sec. 10, excepting U.S. Survey No. 13575;

Secs. 11 thru 36.

Tps. 12, 13, and 14 S., R. 9 W., unsurveyed.

Tps. 4, 5, and 6 S., R. 10 W., unsurveyed.

T. 7 S., R. 10 W.,

Secs. 1 thru 29 and secs. 34, 35, and 36.

T. 8 S., R. 10 W., unsurveyed,

Sec. 1, excepting U.S. Survey No. 12432;

Sec. 2 and secs. 6 thru 36.

T. 9 S., R. 10 W.,

Sec. 36;

tracts A thru T.

T. 10 S., R. 10 W.,

Secs. 1, 12, 13, 24, and 25;

tracts A thru U.

T. 11 S., R. 10 W., unsurveyed,

Secs. 3 thru 5;

Sec. 6, excepting U.S. Survey No. 13564;

Sec. 7, excepting M.S. Nos. 1245, 1894, 1895, 2331, and U.S. Survey No. 13564;

Sec. 8, excepting M.S. Nos. 1245, 1894, and U.S. Survey No. 13564;

Secs. 9 and 10 and secs. 13 thru 16;

Secs. 17 and 18, excepting M.S. No. 1894;

Secs. 19 thru 36.

T. 12 S., R. 10 W., unsurveyed.

T. 13 S., R. 10 W., unsurveyed,

Secs. 1 thru 5;

Secs. 6 and 7, excepting U.S. Survey No. 13903;

Secs. 8 thru 36.

Tps. 14 and 15 S., R. 10 W., unsurveyed.

T. 3 S., R. 11 W.

T. 4 S., R. 11 W.,

Secs. 1 thru 16, sec. 18, secs. 21 thru 28, and secs. 34, 35, and 36.

T. 5 S., R. 11 W.,

Secs. 1 thru 4, secs. 9 thru 15, sec. 19, secs. 22 thru 27, secs. 30, 31, 34, 35, and 36.

T. 6 S., R. 11 W.,

Secs. 1, 2, 6, and 7, secs. 11 thru 15, secs. 22 thru 28, and secs. 32 thru 36.

T. 7 S., R. 11 W.,

Secs. 1 thru 22, secs. 24, 27, and 28.

T. 8 S., R. 11 W., unsurveyed,

Secs. 13, 14, 24, and 25.

T. 10 S., R. 11 W., unsurveyed,

Sec. 24, excepting lot 1, U.S. Survey No. 12250;

Sec. 25;

Sec. 34, excepting lot 1, U.S. Survey No. 12265;

Secs. 35 and 36.

T. 11 S., R. 11 W.,

Sec. 12;

Secs. 29 thru 36;

M.S. No. 2331.

T. 12 S., R. 11 W., unsurveyed.

T. 13 S., R. 11 W.,

Secs. 19 thru 36.

T. 14 S., R. 11 W., unsurveyed,

Secs. 1 thru 28 and secs. 33 thru 36.

T. 15 S., R. 11 W.,

Secs. 1 thru 5 and secs. 8 thru 36.

T. 3 S., R. 12 W.,

Secs. 1, 2, 3, 6, and 7, secs. 10 thru 15, secs. 18 and 19, secs. 22 thru 27, secs. 30, 34, 35, and 36.

T. 4 S., R. 12 W.,

Secs. 1, 2, and 3 and secs. 10 thru 13.

T. 5 S., R. 12 W.,

Secs. 1 thru 5, secs. 8 thru 12, secs. 16, 17, 19, 20, 24, 25, and 26, and secs. 29 thru 36.

T. 12 S., R. 12 W.,

Secs. 1 thru 4, secs. 9 thru 16, and secs. 23 and 24.

T. 13 S., R. 12 W.,

Sec. 25;

U.S. Survey No. 2046.

T. 14 S., R. 12 W.,

Sec. 1.

T. 1 S., R. 13 W.,

that portion of tract A, within sec. 24, S½;

that portion of tract A, within sec. 25, N½;

U.S. Survey No. 13586.

T. 3 S., R. 13 W.

T. 4 S., R. 13 W.,

Secs. 5, 6, 7, 19, 27, and 28 and secs. 33 thru 36.

T. 5 S., R. 13 W.,

Secs. 1 thru 12, secs. 14 thru 23, and secs. 28 thru 36.

T. 6 S., R. 13 W.,

Secs. 1 thru 30.

T. 7 S., R. 13 W.,

Secs. 2 thru 10, secs. 15 thru 20, and secs. 29, 30, and 31.

T. 8 S., R. 13 W.,

Sec. 6.

Tps. 3 and 4 S., R. 14 W., unsurveyed.

T. 5 S., R. 14 W.,

Sec. 12;

tracts A, B, and C.

Tps. 6 and 7 S., R. 14 W.

T. 8 S., R. 14 W.,

Secs. 1 thru 4, secs. 9 thru 12, secs. 14, 15, and 16, and secs. 21 thru 24.

Tps. 3, 4, and 5 S., R. 15 W., unsurveyed.

T. 6 S., R. 15 W.,

Secs. 1 and 2.

Tps. 3, 4 and 5 S., R. 16 W., unsurveyed.

T. 6 S., R. 16 W.,

tract A.

T. 3 S., R. 17 W., unsurveyed,

Secs. 1, 2, 6, and 7, secs. 11 thru 15, sec. 18, secs. 22 thru 28, and secs. 33 thru 36.

T. 4 S., R. 17 W., unsurveyed,

Secs. 1 thru 29 and secs. 32 thru 36.

T. 5 S., R. 17 W.,

Secs. 1, 2, and 3, secs. 10 thru 15, and secs. 22 thru 36.

T. 6 S., R. 17 W.,

Sec. 35;

tract A.

T. 3 S., R. 18 W.,

Secs. 1 thru 6 and secs. 10 thru 13;

Sec. 25, S½, excepting U.S. Survey No. 13777;

Sec. 36, N½, excepting U.S. Survey No. 13777.

T. 6 S., R. 18 W., unsurveyed,

Secs. 1 thru 4, secs. 9 thru 16, secs. 21 thru 29, and secs. 32 thru 36.

T. 7 S., R. 18 W.,

that portion of tract A, within secs. 1 thru 5, secs. 7 thru 11, secs. 15 thru 21, and secs. 29 thru 32.

T. 8 S., R. 18 W.,

tract A.

T. 2 S., R. 19 W., unsurveyed.

T. 3 S., R. 19 W., unsurveyed,

Secs. 1 thru 10 and sec. 18.

T. 4 S., R. 19 W., unsurveyed,

Secs. 4 thru 9, secs. 15 thru 21, and secs. 29 and 30.

T. 7 S., R. 19 W., unsurveyed,

Secs. 24, 25, 35, and 36.

Tps. 8 and 9 S., R. 19 W.,

T. 2 S., R. 20 W., unsurveyed,

Secs. 1, 2, and 3 and secs. 10 thru 15;

Sec. 22, that portion outside the boundary of the Bering Land Bridge National Preserve;

Sec. 23 thru 26;

Secs. 27, 32, and 33, those portions outside the boundary of the Bering Land Bridge National Preserve;

Secs. 34, 35, and 36.

T. 3 S., R. 20 W., unsurveyed,

Secs. 1 thru 4;

Secs. 5 and 6, those portions outside the boundary of the Bering Land Bridge National Preserve;

Secs. 7 thru 24 and secs. 26 thru 34.

T. 4 S., R. 20 W., unsurveyed,

Secs. 4 thru 8, secs. 13 and 14, and secs. 22 thru 29;

Sec. 30, excepting U.S. Survey No. 13778;

Secs 31 thru 34.

T. 5 S. R. 20 W., unsurveyed,

Secs. 5 thru 8, secs. 16 thru 20, and secs. 28 thru 34.

T. 6 S., R. 20 W., unsurveyed,

Secs. 5 thru 10, secs. 15 thru 22, and secs. 27 thru 33;

Sec. 34, excepting U.S. Survey No. 9550.

T. 7 S., R. 20 W., unsurveyed,

Secs 3, 4, and 5;

Sec. 6, excepting U.S. Survey No. 13781;

Secs. 7 thru 10 and secs. 16 thru 19;

Secs. 20 and 21, excepting U.S. Survey No. 13780;

Sec. 26, W½;

Sec. 27, E½;

Secs. 28 thru 33.

T. 8 S., R. 20 W., unsurveyed,

Secs. 3 thru 10 and secs. 14 thru 17;

Sec. 18, excepting U.S. Survey No. 13785;

Secs. 19 thru 23 and secs. 25 thru 36.

T. 9 S., R. 20 W.,

Secs. 1, 12, 13, and 24;

tract A.

T. 10 S., R. 20 W.,

that portion of tract A, within secs. 6, 7, 18, and 19, and secs. 29 thru 32.

T. 11 S., R. 20 W.,

Secs. 4 thru 9, secs. 16 thru 21, and secs. 28 thru 33.

T. 12 S., R. 20 W.,

Sec. 4;

Sec. 5, excepting U.S. Survey No. 13782;

Secs. 6 thru 9 and secs. 16, 17, and 18.

T. 2 S., R. 21 W., unsurveyed,

Secs. 18, 19, 20, 27, 28, and 29, those portions outside of the Bering Land Bridge National Preserve;

Secs. 30 thru 33;

Secs. 34, 35, and 36, those portions outside the boundary of the Bering Land Bridge National Preserve.

T. 3 S., R. 21 W.,

Sec. 1, unsurveyed, that portion outside the boundary of the Bering Land Bridge National Preserve;

Secs. 2 thru 12, unsurveyed;

Sec. 13, unsurveyed, excepting lots 1 and 2, U.S. Survey No. 10284;

Sec. 14, unsurveyed, excepting lot 1, U.S. Survey No. 10284;

Secs. 15 thru 22, unsurveyed;

Sec. 24, unsurveyed, excepting tract 37, and lot 3, U.S. Survey No. 10284 and U.S. Survey No. 13775;

Sec. 25, unsurveyed, secs. 27 thru 34, and sec. 36;

tract 37.

T. 4 S., R. 21 W., unsurveyed,

Secs. 6, 22, 23, 25, 26, 27, 34, 35, and 36.

T. 5 S., R. 21 W., unsurveyed,

Secs. 1 thru 4, secs. 9 thru 16, secs. 21 thru 28, and secs. 33 thru 36.

T. 6 S., R. 21 W., unsurveyed,

Secs. 1 thru 4 and secs. 7 and 8;

Sec. 9, excepting U.S. Survey No. 9715;

Secs. 10 thru 15;

Sec. 16, excepting U.S. Survey No. 9715;

Secs. 17 thru 22;

Secs. 23, 24, and 25, excepting U.S. Survey No. 9714;

Secs. 26 thru 36.

T. 7 S., R. 21 W., unsurveyed,

Sec. 1, excepting U.S. Survey No. 13781;

Secs. 2 thru 33;

Secs. 34 and 35, excepting U.S. Survey No. 14002;

Sec. 36.

T. 8 S., R. 21 W., unsurveyed,

Sec. 1;

Secs. 2 and 3, excepting U.S. Survey No. 14002;

Secs. 4 thru 30;

Sec. 31, excepting U.S. Survey No. 10048;

Secs. 32 thru 36.

T. 9 S., R. 21 W.,

tract A.

T. 10 S., R. 21 W.,

tract A., excepting U.S. Survey No. 13783.

T. 11 S., R. 21 W.,

Secs. 1, 2, and 3;

Sec. 10, lot 1;

Sec. 11;

Secs 12 and 13, excepting U.S. Survey No. 13784.

T. 1 S., R. 22 W., unsurveyed,

Secs 32 and 33, those portions outside the boundary of the Bering Land Bridge National Preserve.

T. 2 S., R. 22 W., unsurveyed,

Secs. 3 thru 6, those portions outside the boundary of the Bering Land Bridge National Preserve;

Secs. 7, 8 and 9;

Secs. 10 thru 13, those portions outside the boundary of the Bering Land Bridge National Preserve;

Secs. 14 thru 36.

T. 3 S., R. 22 W., unsurveyed,

Secs. 1 thru 30 and secs. 32 thru 36.

T. 5 S., R. 22 W., unsurveyed,

Sec. 24, excepting lots 3 and 4, U.S. Survey No. 9706.

T. 6 S., R. 22 W., unsurveyed,

Secs. 7 and 8;

Sec. 9, excepting lot 1, U.S. Survey No. 9934;

Sec. 10, excepting lots 2 and 3, U.S. Survey No. 9931, lots 1 and 2, U.S. Survey No. 9934, and lots 1 thru 3, U.S. Survey No. 9935;

Secs. 11 thru 14;

Sec. 15, excepting lots 1 and 2, U.S. Survey 9930, lots 1 thru 3, U.S. Survey No. 9931, lots 1 thru 3, U.S. Survey No. 9932, lots 1 and 2, U.S. Survey No. 9933, and lot 2, U.S. Survey No. 9934.

Sec. 16, excepting lot 2, U.S. Survey No. 9930 and lot 2, U.S. Survey No. 9932;

Secs. 17, 18, and 19;

Sec. 20, excepting lot 1, U.S. Survey No. 14004;

Sec. 21, excepting lots 1 thru 3, U.S. Survey No. 14004;

Secs. 22 thru 27;

Sec. 28, excepting lots 1 and 2, U.S. Survey No. 14004;

Sec. 29, excepting U.S. Survey No. 13996 and lot 1, U.S. Survey No. 14004;

Secs. 30 thru 36.

T. 7 S., R. 22 W.,

tract B.

T. 8 S., R. 22 W.,

tracts A thru E.

T. 9 S., R. 22 W.,

Secs. 4 and 9;

tract B.

T. 12 S., R. 22 W.,

Secs. 6, 7, 18, 19, and 30.

T. 1 S., R. 23 W., unsurveyed,

Sec. 33, that portion outside the boundary of the Bering Land Bridge National Preserve.

T. 2 S., R. 23 W., unsurveyed,

Secs. 1 thru 6, those portions outside the boundary of the Bering Land Bridge National Preserve;

Secs. 7, 8, and 9;

Secs. 10 and 11, those portions outside the boundary of the Bering Land Bridge National Preserve;

Secs. 12 thru 36.

T. 3 S., R. 23 W., unsurveyed,

Secs. 1 thru 33.

T. 4 S., R. 23 W., unsurveyed,

Secs. 5 and 6.

T. 5 S., R. 23 W., unsurveyed,

Secs. 31 thru 34.

T. 6 S., R. 23 W.,

that portion of tract A, within secs. 2 thru 17, and 19 thru 36.

T. 7 S., R. 23 W.,

Sec. 1, excepting U.S. Survey No. 13861;

Secs. 2 thru 10, sec. 13, secs. 16 thru 20, secs. 23 thru 26, and secs. 35 and 36.

T. 8 S., R. 23 W.,

Secs. 1 and 2, secs. 11 thru 14, and sec. 25.

T. 11 S., R. 23 W.,

Secs. 17 thru 20 and secs. 27, 28, and 29;

Secs. 34 and 35.

T. 1 S., R. 24 W., unsurveyed,

Secs. 34 and 36, that portion outside the boundary of the Bering Land Bridge National Preserve.

T. 2 S., R. 24 W., unsurveyed,

Secs. 1, 2, 3, 9, and 10, those portions outside the boundary of the Bering Land Bridge National Preserve;

Secs. 11 thru 15;

Secs. 16, 17, 19, and 20, those portions outside the boundary of the Bering Land Bridge National Preserve;

Secs. 21 thru 29;

Sec. 30, that portion outside the boundary of the Bering Land Bridge National Preserve;

Secs. 31 thru 36.

T. 3 S., R. 24 W., unsurveyed.

T. 4 S., R. 24 W., unsurveyed,

Secs. 1 thru 22 and secs. 27 thru 33.

T. 5 S., R. 24 W.,

Secs. 19, 20, 29, and 30, and secs. 33 thru 36, unsurveyed;

tract A.

T. 6 S., R. 24 W.,

Secs. 1 thru 6, sec. 12, secs. 21 thru 28, and secs. 33 thru 36.

T. 7 S., R. 24 W.,

Secs. 4, 9, 22, 23, and 24;

tract U.

T. 8 S., R. 24 W.,

tract D.

T. 10 S., R. 24 W.,

Secs. 4 thru 9, secs. 16 thru 21, and secs. 28 thru 33.

T. 2 S., R. 25 W., unsurveyed,

Secs. 19, 25, 30, 31, 32, 35, and 36, those portions outside the boundary of the Bering Land Bridge National Preserve.

T. 3 S., R. 25 W. unsurveyed,

Sec. 1;

Secs. 2, 3, and 5, those portions outside the boundary of the Bering Land Bridge National Preserve;

Secs. 6 and 7;

Secs. 8, 9, and 10, those portions outside the boundary of the Bering Land Bridge National Preserve;

Secs. 11 thru 16;

Sec. 17, that portion outside the boundary of the Bering Land Bridge National Preserve;

Secs. 18 thru 36.

T. 4 S., R. 25 W., unsurveyed.

T. 6 S., R. 25 W.,

Sec. 22;

tracts D, E, F, P thru U, X, and Y;

that portion of tract Z, within secs. 16, 21, and 33;

tract B1.

T. 9 S., R. 25 W.,

Sec. 1, lot 2;

Secs. 2 and 3 and secs. 7 thru 24.

T. 10 S., R. 25 W.,

Secs. 1 thru 4, secs. 10 thru 15, secs. 22 thru 26, and secs. 35 and 36.

T. 1 S., R. 26 W., unsurveyed,

Secs. 7, 17 and 18, those portions outside the boundary of the Bering Land Bridge National Preserve;

Sec. 19,

Secs. 20, 21, 27, and 28, those portions outside the boundary of the Bering Land Bridge National Preserve;

Secs. 29 thru 33;

Secs. 34 and 35, those portions outside the boundary of the Bering Land Bridge National Preserve.

T. 2 S., R. 26 W., unsurveyed,

Sec. 2, that portion outside the boundary of the Bering Land Bridge National Preserve;

Secs. 3 thru 10;

Secs. 11, 12, and 13, those portions outside the boundary of the Bering Land Bridge National Preserve;

Secs. 14 thru 23;

Sec. 24, those portions outside the boundary of the Bering Land Bridge National Preserve;

Secs. 25 thru 36.

T. 3 S., R. 26 W., unsurveyed.

T. 4 S., R. 26 W., unsurveyed,

Secs. 1 thru 5;

Sec. 6, excepting U.S. Survey No. 13788;

Secs. 7 thru 36.

T. 5 S., R. 26 W., unsurveyed.

T. 1 S., R. 27 W., unsurveyed,

Secs. 1, 2 and 3, those portions outside the boundary of the Bering Land Bridge National Preserve;

Secs. 4 thru 11;

Sec. 12, that portion outside the boundary of the Bering Land Bridge National Preserve;

Secs. 13 thru 36.

Tps. 2, 3, and 4 S., R. 27 W., unsurveyed.

Tps. 1 thru 4 S., R. 28 W., unsurveyed.

T. 2 S., R. 29 W.,

Secs. 1, 2, and 3 and secs. 10 thru 14, unsurveyed;

Sec. 15, unsurveyed, excepting U.S. Survey No. 11133;

Sec. 21, unsurveyed, excepting M.S. 1144;

Secs. 22 thru 26, unsurveyed;

Sec. 27, unsurveyed, excepting M.S. 1144;

Secs. 31 thru 34, unsurveyed;

Secs. 35 and 36, unsurveyed, excepting U.S. Survey No. 14169;

tracts F and G.

T. 4 S., R. 29 W., unsurveyed,

Secs. 1 thru 18, secs. 21 thru 28, and secs. 33 thru 36.

T. 4 S., R. 30 W.,

that portion of tract E, within secs.7 thru 9, secs. 15 thru 22, and sec. 28;

tracts F, G, and H;

that portion of tract X, within sec. 28;

tracts Y and Z;

that portion of tract GG, within sec. 28.

T. 5 S., R. 30 W.,

tract A.

T. 1 S., R. 31 W., unsurveyed,

Secs. 1 thru 7;

Sec. 8, excepting lot 1, U.S. Survey No. 11602;

Secs. 9 thru 18;

Sec. 19, excepting lot 2, U.S. Survey No. 11602;

Secs. 20 thru 36.

T. 2 S., R. 31 W., unsurveyed.

T. 3 S., R. 31 W.,

tracts A, B, and C.

T. 5 S., R. 31 W.,

Secs. 19 thru 36, unsurveyed;

tract B, excepting U.S. Survey No. 13910;

U.S. Survey No. 13910.

T. 6 S., R, 31 W., unsurveyed,

Secs. 5 and 6.

T. 7 S., R. 31 W.,

lot 23, U.S. Survey No. 4212;

U.S. Survey No. 13719.

T. 9 S., R. 31 W., unsurveyed,

Sec. 6, excepting U.S. Survey No. 11462;

Sec. 7 and secs. 17 thru 21.

T. 10 S., R. 31 W.,

Sec. 32.

Tps. 1 and 2 S., R. 32 W., unsurveyed.

T. 3 S., R. 32 W.,

tract E.

T. 4 S., R. 32 W.,

Sec. 19;

Sec. 27, excepting U.S. Survey No. 13917;

Sec. 28;

Sec. 29, lot 2;

that portion of tract JJ, within Sec. 35;

tracts KK thru MM.

T. 5 S., R. 32 W., unsurveyed.

T. 6 S., R. 32 W., unsurveyed,

Secs. 1 thru 21;

Secs. 33, S½NE¼, SE¼NW¼, E½SW¼, and SE ¼;

Sec. 34, W½SW¼.

T. 1 S., R. 33 W., unsurveyed.

T. 2 S., R. 33 W., unsurveyed,

Secs. 1 thru 21;

Sec. 22, excepting U.S. Survey No. 11603;

Secs. 23 thru 36;

lot 2, U.S. Survey No. 11603.

T. 3 S., R. 33 W.,

tract V.

T. 4 S., R. 33 W.,

tract R;

that portion of tract DD, within secs. 27 and 32;

tract EE.

Tps. 5 and 6 S., R. 33 W., unsurveyed.

T. 1 S., R. 34 W., unsurveyed,

Secs. 1 thru 32, and secs. 34, 35, and 36.

T. 2 S., R. 34 W., unsurveyed,

Secs. 1, 2, 3, 5, and 6, secs. 10 thru 16, secs. 20 thru 29, and secs. 31 thru 36.

T. 3 S., R. 34 W., unsurveyed,

Secs. 1 thru 6, secs. 8 thru 14;

Sec. 15, excepting U.S. Survey Nos. 11194 and 11604;

Secs. 16, 23, 24 and 26.

T. 6 S., R. 34 W., unsurveyed,

Secs. 3 thru 10, secs. 15 thru 22, and secs. 27 thru 34.

T. 7 S., R. 34 W., unsurveyed,

Secs. 3 thru 10, secs. 15 thru 20, and sec. 30.

T. 1 S., R. 35 W., unsurveyed,

Secs. 1 and 2, excepting U.S. Survey No. 11198;

Secs. 3 thru 29, and secs. 32 thru 36.

T. 2 S., R. 35 W., unsurveyed,

Secs. 1 thru 5, secs. 8 thru 17, secs. 20, 21, 22, 28, 29, 31, 32, and 33.

T. 3 S., R. 35 W.,

Secs. 3 thru 10;

Sec. 11, excepting lot 2, U.S. Survey No. 14175;

Secs. 13 thru 30;

Sec. 33, excepting U.S. Survey Nos. 14113 and 14174;

Sec. 34;

Sec. 35;

Sec. 36.

T. 5 S., R. 35 W., unsurveyed,

Sec. 7, secs. 16 thru 23, and secs. 29, 30, and 31.

T. 6 S., R. 35 W., unsurveyed,

Sec. 1 and secs. 10 thru 36.

T. 7 S., R. 35 W., unsurveyed,

Secs. 1 thru 10, secs. 12 and 13, secs. 15 thru 22, secs. 24 and 25, and secs. 27 thru 33.

T. 1 S., R. 36 W., unsurveyed,

Secs. 1, 6, 12, and 13.

T. 2 S., R. 36 W.,

Sec. 10;

Sec. 15, lot 1;

that portion of tract A, within secs. 7, 8, 11, and 12;

tracts B and D.

T. 3 S., R. 36 W.,

Sec. 13.

T. 4 S., R. 36 W.,

tracts C and E.

T. 5 S., R. 36 W., unsurveyed,

Secs. 2, 3, 4, and 6, secs. 9 thru 17, secs. 20 thru 28, and secs. 34, 35, and 36.

T. 6 S., R. 36 W., unsurveyed,

Sec. 3 and secs. 23 thru 36.

T. 7 S., R. 36 W., unsurveyed.

T. 8 S., R. 36 W., unsurveyed,

Secs. 6, 7, and 8.

T. 9 S., R. 36 W.,

Secs. 19 and 20 and secs. 29 thru 32.

T. 10 S., R. 36 W., unsurveyed,

Secs. 5 and 6.

T. 1 S., R. 37 W., unsurveyed,

Secs. 1 thru 19 and secs. 21, 22, 23, and 30.

T. 5 S., R. 37 W.,

Sec. 1;

Sec. 2, lot 1.

T. 6 S., R. 37 W.,

that portion of tract A, within secs. 25, 26, 27, 34, 35, and 36.

T. 7 S., R. 37 W.,

tracts B thru G;

that portion of tract H within secs. 1, 2, 3, secs. 10 thru 15, secs. 22 thru 28, and secs. 33 thru 36.

T. 1 S., R. 38 W.,

Sec. 29;

tract A.

T. 4 S., R. 38 W.,

Sec. 31;

that portion of tract A, within secs. 1 and 2, 11 thru 14, 21 thru 24, 27, 28, 33, and 34.

T. 5 S., R. 38 W.,

that portion of tract B, within secs. 19 and 20;

that portion of tract D, within secs. 31, 32, and 33.

T. 6 S., R. 38 W.,

Secs. 4 thru 10, secs. 15 thru 18, and secs. 20, 21, 22, and 29.

T. 4 S., R. 39 W.,

Secs. 35 and 36.

T. 5 S., R. 39 W.,

that portion of tract D, within secs. 4, 5, 8, and 17;

that portion of tract E, within secs. 1, 2, and 3, secs. 9 thru 16, and secs. 20 thru 36.

T. 6 S., R. 39 W.,

Secs. 1 thru 5;

Sec. 9, lot 1;

Secs. 10, 11 and 12.

Umiat Meridian, Alaska

T. 4 S., R. 42 W.,

Secs. 18, 19, 30, and 31.

T. 3 S., R. 43 W.,

Secs. 13 thru 36.

T. 4 S., R. 43 W.,

Secs. 7 thru 36.

T. 6 S., R. 43 W.,

Sec. 7 and secs. 13 thru 31.

T. 9 S., R. 43 W.,

Sec. 1, that portion outside the boundary of the National Petroleum Reserve, Alaska;

Secs. 4 thru 11;

Secs. 12 and 13, those portions outside the boundary of the National Petroleum Reserve, Alaska;

Secs. 14 thru 23;

Secs. 24 and 25, those portions outside the boundary of the National Petroleum Reserve, Alaska;

Secs. 26 thru 35;

Sec. 36, that portion outside the boundary of the National Petroleum Reserve, Alaska.

T. 10 S., R. 43 W.,

Sec. 1, that portion outside the boundary of the National Petroleum Reserve, Alaska;

Secs. 2, 3, 10, and 11;

Secs. 12 and 13, those portions outside the boundary of the National Petroleum Reserve, Alaska;

Secs. 14 thru 17 and secs. 19 thru 23;

Secs. 24 and 25, those portions outside the boundary of the National Petroleum Reserve, Alaska;

Secs. 26 thru 35;

Sec. 36, that portion outside the boundary of the National Petroleum Reserve, Alaska.

T. 11 S., R. 43 W.,

Sec. 1, lots 1 and 2;

Sec. 2, that portion outside the boundary of the Noatak National Preserve;

Secs. 3 thru 6;

Sec. 7, that portion outside the boundary of the Noatak National Preserve;

Secs. 8 thru 11;

Secs. 12 and 13, those portions outside the boundary of the Noatak National Preserve;

Secs. 14, 15, and 16;

Secs. 17 and 18, secs. 20 thru 24, and sec. 27, those portions outside the boundary of the Noatak National Preserve;

Sec. 28, lots 1 and 2.

T. 2 S., R. 44 W.,

Secs. 31 thru 36.

T. 3 S., R. 44 W.,

Secs. 9 thru 14 and secs. 23 and 24.

T. 4 S., R. 44 W.,

Secs. 19 thru 36.

T. 5 S., R. 44 W.,

Secs. 1 thru 6.

T. 6 S., R. 44 W.

T. 9 S., R. 44 W.,

Secs. 19 thru 36.

T. 10 S., R. 44 W.,

Secs. 2 thru 10, secs. 24 and 25, and secs. 31 thru 36.

T. 11 S., R. 44 W.,

Secs. 1 thru 6;

Secs. 7 thru 14 and secs. 17 and 18, those portions outside the boundary of the Noatak National Preserve.

T. 6 S., R. 45 W.,

Secs. 1 thru 4 and secs. 7 thru 36.

T. 9 S., R. 45 W.,

Secs. 19 thru 36.

T. 10 S., R. 45 W.,

Secs. 1 thru 24, secs. 29 thru 32, and secs. 35 and 36.

T. 11 S., R. 45 W.,

Secs. 1 thru 12;

Sec. 13, that portion outside the boundary of the Noatak National Preserve;

Secs. 14 thru 22;

Secs. 23, 24, 26, 27, and 28, those portions outside the boundary of the Noatak National Preserve;

Secs. 29 thru 32;

Sec. 33, that portion outside the boundary of the Noatak National Preserve.

T. 12 S., R. 45 W.,

Secs. 4 and 5, those portions outside the boundary of the Noatak National Preserve;

Sec. 6;

Secs. 7, 8, 16, 17, and 18, those portions outside the boundary of the Noatak National Preserve.

T. 6 S., R. 46 W.,

Secs. 12 thru 15.

T. 9 S., R. 46 W.,

Secs. 19 thru 36.

T. 10 S., R. 46 W.

T. 11 S., R. 46 W.,

Secs. 1 thru 12, secs. 15 thru 20, and secs. 35 and 36.

T. 12 S., R. 46 W.,

Secs. 1, 2, and 3;

Secs. 12, 13, 14, 22, and 23, those portions outside the boundary of the Noatak National Preserve.

T. 10 S., R. 47 W.,

Secs. 19 thru 36.

T. 11 S., R. 47 W.

T. 12 S., R. 47 W.,

Secs. 3 thru 10 and secs. 13 thru 18.

T. 9 S., R. 48 W.,

Secs. 13 thru 36.

T. 10 S., R. 48 W.,

Secs. 3 thru 10, secs. 15 thru 30, and secs. 32 thru 36.

T. 11 S., R. 48 W.,

Secs. 1, 2, and 3, secs. 10 thru 15, secs. 18 and 19, secs. 23 thru 26, and secs. 29 thru 32;

Secs. 35 and 36.

T. 12 S., R. 48 W.,

Secs. 1, 5, 6, 12, and 13.

T. 9 S., R. 49 W.,

Secs. 13 and 14, secs. 23 thru 26, secs. 29 thru 32, and secs. 35 and 36.

T. 10 S., R. 49 W.,

Secs. 1 and 2, secs. 5 thru 8, secs. 11 thru 14, secs. 17 thru 20, secs. 24 and 25, and secs. 28 thru 32.

T. 11 S., R. 49 W.,

Secs. 5 thru 8, secs. 17, 18, and 19, and secs. 35 and 36.

T. 12 S., R. 49 W.,

Sec. 1.

T. 7 S., R. 50 W.

T. 9 S., R. 50 W.,

Secs. 25, 26, and 27 and secs. 31 thru 36.

T. 10 S., R. 50 W.

T. 11 S., R. 50 W.,

Secs. 1 thru 24 and secs. 26 thru 33.

T. 12 S., R. 50 W.,

Sec. 6 and secs. 25 thru 27.

Tps. 10 and 11 S., R. 51 W.

T. 12 S., R. 51 W.,

Secs. 1 thru 6, secs. 9 thru 12, and secs. 14, 15, 29, and 30.

Tps. 10 thru 12 S., Rs. 52 thru 55 W.

Tps. 11 and 12 S., R. 56 W.

T. 10 S., R. 57 W.,

Secs. 4 thru 9, secs. 16 thru 21, and secs. 28 thru 33.

T. 7 S., R. 58 W., unsurveyed,

Secs. 16 thru 21 and secs. 28 thru 33.

T. 8 S., R. 58 W., unsurveyed,

Secs. 4 thru 9 and secs. 16 thru 36.

Tps. 9 and 10 S., R. 58 W., unsurveyed.

T. 11 S., R. 58 W.,

Sec. 25 and secs. 33 thru 36.

T. 12 S., R. 58 W.,

tract A.

T. 9 S., R. 61 W.,

Sec. 36, unsurveyed, that portion outside the boundary of the Alaska Maritime National Wildlife Refuge.

T. 10 S., R. 61 W., unsurveyed,

Secs. 1 and 2, those portions outside the boundary of the Alaska Maritime National Wildlife Refuge;

Secs. 11 thru 14 and secs. 23 thru 26;

Sec. 35, that portion outside the boundary of the Alaska Maritime National Wildlife Refuge;

Sec. 36.

T. 11 S., R. 61 W., unsurveyed,

Secs. 1 and 2 and secs. 11 thru 14.

The areas described aggregate approximately 9,727,730.01 acres.

2. PLO No. 5418, effective March 1974, amends PLO No. 5180 to add all unreserved public lands in Alaska, or those lands that may become unreserved unless specified by order at that time. Upon revocation, the lands in this order will not be subject to the terms and conditions of PLO No. 5418, which amended PLO No. 5180, but will continue to be subject to the terms and conditions of any other withdrawal, application, segregation of record, and other applicable law. In 1983, PLO No. 6477 modified the segregation of PLO Nos. 5170, 5179, 5180, and 5184. In 1984, PLO No. 6559 further modified the segregation of PLO No. 5180. PLO Nos. 6477 and 6559 will be superseded by this Order.

3. At 8 a.m. AKST on February 18, 2021, the lands described in Paragraph 1 shall be open to all forms of appropriation under the general public land laws, including location and entry under the mining laws, leasing under the Mineral Leasing Act of February 25, 1920, as amended, subject to valid existing rights, the provisions of existing withdrawals, other segregations of record, and the requirements of applicable law. All valid applications received at or prior to 8 a.m. AKST on February 18, 2021, shall be considered as simultaneously filed at that time. Those received thereafter shall be considered in the order of filing. Appropriation of any of the lands referenced in this PLO under the general mining laws prior to the date and time of revocation remain unauthorized. Any such attempted appropriation, including attempted adverse possession under 30 U.S.C. 38, shall vest no rights against the United States. State law governs acts required to establish a location and to initiate a right of possession where not in conflict with Federal law. The BLM will not intervene in disputes between rival locators over possessory rights since Congress has provided for such determinations in local courts.

Dated: January 11, 2021.
David L. Bernhardt,
Secretary of the Interior.

[FR Doc. 2021-01111 Filed 1-15-21; 8:45 am]

BILLING CODE 4310-JA-P